SECURITIES AND EXCHANGE COMMISSION

[Release No. 34-85181; File No. SR-CboeBZX-2018-066]

Self-Regulatory Organizations; Cboe BZX Exchange, Inc.; Notice of Deemed Approval of a Proposed Rule Change To Permit the Listing and Trading of P.M.-Settled Series on Certain Broad-Based Index Options on a Pilot Basis

February 22, 2019.

On October 11, 2018, Cboe BZX Exchange, Inc. filed with the Securities and Exchange Commission (“Commission”), pursuant to Section 19(b)(1) of the Securities Exchange Act of 1934 (“Act”) ¹ and Rule 19b-4 thereunder,² a proposed rule change to permit the listing and trading of P.M.-settled series on certain broad-based index options on a pilot basis.

¹ 15 U.S.C. 78s(b)(1).

² 17 CFR 240.19b-4.

The proposed rule change was published for comment in the Federal Register on October 30, 2018.³ On December 13, 2018, pursuant to Section 19(b)(2) of the Act,⁴ the Commission designated a longer period within which to approve the proposed rule change, disapprove the proposed rule change, or institute proceedings to determine whether to disapprove the proposed rule change.⁵ The Commission received no comment letters on the proposed rule change.

³ See Securities Exchange Act Release No. 84480 (Oct. 24, 2018), 83 FR 54635.

⁴ 15 U.S.C. 78s(b)(2).

⁵ See Securities Exchange Act Release No. 84816, 83 FR 65194 (Dec. 19, 2018). The Commission designated January 28, 2019, as the date by which it should approve, disapprove, or institute proceedings to determine whether to disapprove the proposed rule change.

As of January 28, 2019, pursuant to Section 19(b)(2)(D) of the Act,⁶ the proposed rule change (SR-CboeBZX-2018-066) was deemed to have been approved by the Commission.

⁶ 15 U.S.C. 78s(b)(2)(D).

⁷ 17 CFR 200.30-3(a)(12).

For the Commission, by the Division of Trading and Markets, pursuant to delegated authority.⁷
Eduardo A. Aleman,
Deputy Secretary.

[FR Doc. 2019-03469 Filed 2-27-19; 8:45 am]

BILLING CODE 8011-01-P